DEPARTMENT OF ENERGY

Federal Energy Regulatory Commission

Combined Notice of Filings #1

Take notice that the Commission received the following exempt wholesale generator filings:

Docket Numbers: EG20-220-000.

Applicants: East Line Solar, LLC.

Description: Notice of Self-Certification of Exempt Wholesale Generator Status of East Line Solar, LLC.

Filed Date: 7/28/20.

Accession Number: 20200728-5121.

Comments Due: 5 p.m. ET 8/18/20.

Take notice that the Commission received the following electric rate filings:

Docket Numbers: ER14-2666-004.

Applicants: Avalon Solar Partners, LLC, Gulf Coast Solar Center III, LLC, Gulf Coast Solar Center II, LLC, Nicolis, LLC, Tropico, LLC.

Description: Compliance filing: Notice of Non-Material Change in Status and Revised MBR Tariffs to be effective 7/30/2020.

Filed Date: 7/29/20.

Accession Number: 20200729-5077.

Comments Due: 5 p.m. ET 8/19/20.

Docket Numbers: ER16-2501-002.

Applicants: Nicolis, LLC, Tropico, LLC, Avalon Solar Partners, LLC, Gulf Coast Solar Center III, LLC, Gulf Coast Solar Center II, LLC.

Description: Compliance filing: Notice of Non-Material Change in Status and Revised MBR Tariffs to be effective 7/30/2020.

Filed Date: 7/29/20.

Accession Number: 20200729-5073.

Comments Due: 5 p.m. ET 8/19/20.

Docket Numbers: ER16-2502-002.

Applicants: Avalon Solar Partners, LLC, Nicolis, LLC, Gulf Coast Solar Center II, LLC, Gulf Coast Solar Center III, LLC, Tropico, LLC.

Description: Compliance filing: Notice of Non-Material Change in Status and Revised MBR Tariffs to be effective 7/30/2020.

Filed Date: 7/29/20.

Accession Number: 20200729-5066.

Comments Due: 5 p.m. ET 8/19/20.

Docket Numbers: ER17-1671-002; ER17-1672-002.

Applicants: Gulf Coast Solar Center II, LLC, Gulf Coast Solar Center III, LLC.

Description: Notice of Non-Material Change in Status of Gulf Coast Solar Center II, LLC.

Filed Date: 7/29/20.

Accession Number: 20200729-5126.

Comments Due: 5 p.m. ET 8/19/20.

Docket Numbers: ER19-1664-003; ER19-1665-003; ER20-76-003;

ER19-1666-003; ER10-1992-022.

Applicants: Refresh Wind, LLC, Refresh Wind 2, LLC, Tehachapi Plains Wind, LLC, Terra-Gen 251 Wind, LLC, Victory Garden Phase IV, LLC.

Description: Notice of Non-Material Change in Status of Refresh Wind, LLC, et al.

Filed Date: 7/29/20.

Accession Number: 20200729-5156.

Comments Due: 5 p.m. ET 8/19/20.

Docket Numbers: ER19-1920-003.

Applicants: Tampa Electric Company.

Description: Compliance filing: Third Compliance Filing under Order Nos. 845 and 845A to be effective 5/22/2019.

Filed Date: 7/29/20.

Accession Number: 20200729-5041.

Comments Due: 5 p.m. ET 8/19/20.

Docket Numbers: ER20-2153-001.

Applicants: Sanford Airport Solar, LLC.

Description: Tariff Amendment: Amendment to the MBR Application of Sanford Airport Solar, LLC to be effective 8/24/2020.

Filed Date: 7/28/20.

Accession Number: 20200728-5136.

Comments Due: 5 p.m. ET 8/7/20.

Docket Numbers: ER20-2527-000.

Applicants: Liberty Utilities (Granite State Electric) Corp.

Description: § 205(d) Rate Filing: Borderline Sales Rate Sheet Update Revised per PUC Order July 2020 to be effective 7/1/2020.

Filed Date: 7/28/20.

Accession Number: 20200728-5132.

Comments Due: 5 p.m. ET 8/18/20.

Docket Numbers: ER20-2528-000.

Applicants: Airport Solar LLC.

Description: Baseline eTariff Filing: Reactive Power Compensation Filing to be effective 8/1/2020.

Filed Date: 7/29/20.

Accession Number: 20200729-5012.

Comments Due: 5 p.m. ET 8/19/20.

Docket Numbers: ER20-2529-000.

Applicants: AEP Texas Inc.

Description: § 205(d) Rate Filing: AEPTX-Taygete II 2nd Amended Generation Interconnection Agreement to be effective 7/17/2020.

Filed Date: 7/29/20.

Accession Number: 20200729-5037.

Comments Due: 5 p.m. ET 8/19/20.

Docket Numbers: ER20-2530-000.

Applicants: PJM Interconnection, L.L.C.

Description: § 205(d) Rate Filing: Original ISA, SA No. 5688; Queue No. AF1-192 to be effective 6/29/2020.

Filed Date: 7/29/20.

Accession Number: 20200729-5040.

Comments Due: 5 p.m. ET 8/19/20.

Docket Numbers: ER20-2531-000.

Applicants: Midcontinent Independent System Operator, Inc, Michigan Electric Transmission Company, LLC, Consumers Energy Company.

Description: § 205(d) Rate Filing: 2020-07-29_SA 1926 & SA 3536 METC-CE DTIA and TSA to be effective 12/31/9998.

Filed Date: 7/29/20.

Accession Number: 20200729-5043.

Comments Due: 5 p.m. ET 8/19/20.

Docket Numbers: ER20-2532-000.

Applicants: AEP Texas Inc.

Description: § 205(d) Rate Filing: AEPTX—Texas-New Mexico Power 4th Amended Interconnection Agreement to be effective 7/20/2020.

Filed Date: 7/29/20.

Accession Number: 20200729-5046.

Comments Due: 5 p.m. ET 8/19/20.

Docket Numbers: ER20-2533-000.

Applicants: PJM Interconnection, L.L.C.

Description: § 205(d) Rate Filing: Original ISA, SA No. 5691; Queue No. AF1-194 to be effective 6/30/2020.

Filed Date: 7/29/20.

Accession Number: 20200729-5049.

Comments Due: 5 p.m. ET 8/19/20.

Docket Numbers: ER20-2534-000.

Applicants: AEP Texas Inc.

Description: § 205(d) Rate Filing: AEPTX-Concho Valley EC-Golden Spread EC 3rd Amended Interconnection Agreement to be effective 7/20/2020.

Filed Date: 7/29/20.

Accession Number: 20200729-5051.

Comments Due: 5 p.m. ET 8/19/20.

Docket Numbers: ER20-2535-000.

Applicants: Duke Energy Ohio, Inc.

Description: § 205(d) Rate Filing: DEO-AEP—RS 272—Agreement for Transmission Service Billing for Retail Load to be effective 9/28/2020.

Filed Date: 7/29/20.

Accession Number: 20200729-5065.

Comments Due: 5 p.m. ET 8/19/20.

Docket Numbers: ER20-2536-000.

Applicants: Tri-State Generation and Transmission Association, Inc.

Description: § 205(d) Rate Filing: Amendment to Tri-State Rate Schedule No. 129 to be effective 2/26/2020.

Filed Date: 7/29/20.

Accession Number: 20200729-5068.

Comments Due: 5 p.m. ET 8/19/20.

Docket Numbers: ER20-2537-000.

Applicants: Crowned Ridge Wind, LLC.

Description: Baseline eTariff Filing: Crowned Ridge Wind, LLC Filing of Assignment, Co-Tenancy and SFA to be effective 8/6/2020.

Filed Date: 7/29/20.

Accession Number: 20200729-5105.

Comments Due: 5 p.m. ET 8/19/20.

Docket Numbers: ER20-2538-000.

Applicants: Midcontinent Independent System Operator, Inc, Michigan Electric Transmission Company, LLC.

Description: § 205(d) Rate Filing: 2020-07-29_SA 2376 METC-Lowell Light & Power 2nd Rev IFA to be effective 9/28/2020.

Filed Date: 7/29/20.

Accession Number: 20200729-5106.

Comments Due: 5 p.m. ET 8/19/20.

Docket Numbers: ER20-2539-000.

Applicants: Duke Energy Florida, LLC.

Description: § 205(d) Rate Filing: Dynamic Transfer Agreement RS-270—DEF, Winter Park, FPMA, FMPP to be effective 10/1/2020.

Filed Date: 7/29/20.

Accession Number: 20200729-5124.

Comments Due: 5 p.m. ET 8/19/20.

Docket Numbers: ER20-2540-000.

Applicants: California Ridge Wind Energy LLC.

Description: § 205(d) Rate Filing: Request for Cat. 1 Seller Status in the Central Region and Revised MBR Tariff to be effective 7/30/2020.

Filed Date: 7/29/20.

Accession Number: 20200729-5131.

Comments Due: 5 p.m. ET 8/19/20.

Docket Numbers: ER20-2541-000.

Applicants: Entergy Louisiana, LLC.

Description: § 205(d) Rate Filing: ELL JWLPS Reactive to be effective 10/1/2020.

Filed Date: 7/29/20.

Accession Number: 20200729-5133.

Comments Due: 5 p.m. ET 8/19/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2020.
Nathaniel J. Davis, Sr.,
Deputy Secretary.

[FR Doc. 2020-16942 Filed 8-3-20; 8:45 am]

BILLING CODE 6717-01-P